DEPARTMENT OF THE INTERIOR

Bureau of Indian Affairs

Proposed Agency Information Collection Activities; Comment Request

AGENCY: Bureau of Indian Affairs, Department of the Interior.

ACTION: Notice of request for comments.

SUMMARY: The Bureau of Indian Affairs is seeking comments from the public on a renewal of an information collection, Verification of Indian Preference for Employment in the BIA and the Indian Health Service (IHS), as required by the Paperwork Reduction Act. The BIA is now seeking comments from interested parties to renew the clearance.

DATES: Submit comments on or before March 31, 2008.

ADDRESSES: Written comments can be sent to Daisy West, Chief, Division of Tribal Government Services, Office of Indian Services, Bureau of Indian Affairs, Department of the Interior, 1849 C Street, NW., Mail Stop 4513-MIB, Washington, DC 20240.

FOR FURTHER INFORMATION CONTACT: Elizabeth Colliflower, Tribal Relations Specialist, Division of Tribal Government Services, (202) 513-7627.

SUPPLEMENTARY INFORMATION: The purpose of the Indian Preference Form is to encourage qualified Indians to seek preference in employment with the BIA and the IHS. BIA collects information under the proposed regulations to ensure compliance with Indian preference hiring requirements.

Request for Comments

The Department of the Interior invites comments on:

(a) The accuracy of the burden hours, including the validity of the methodology used and assumptions made;

(b) The necessity of the information for proper performance of the bureau functions, including its practical utility;

(c) The quality, utility, and clarity of the information to be collected; and

(d) Suggestions to reduce the burden including use of automated, electronic, mechanical, or other forms of information technology.

The public is advised that an agency may not conduct or sponsor, and a person is not required to respond to, a collection of information unless it displays a currently valid OM clearance number. For example, this collection is listed by OMB as Control No. 1076-0160, and it expires October 5, 2008. The response is voluntary to obtain or retain a benefit.

Please submit your comments to the person listed in the ADDRESSES section. Please note that comments, names and addresses of commentators, are open for public review during the hours of 8 a.m. to 3 p.m., EST, Monday through Friday except for legal holidays. Before including your address, phone number, e-mail address, or other personal identifying information in your comment, be advised that your entire comment—including your personal identifying information—may be made publicly available at any time. While you can ask us in your comment to withhold from public review your personal identifying information, we cannot guarantee that we will be able to do so.

Information Collection Abstract

The information collection relates only to individuals applying for employment with the BIA and the IHS. The tribe's involvement is limited to verifying membership information submitted by the applicant.

OMB control number: 1076-0160.

Type of review: Renewal.

Brief description of collection: The information will be used to establish that certain persons who are of Indian descent receive preference when appointments are made to vacancies in positions with the BIA and IHS as well as in any unit that has been transferred intact from the BIA to a Bureau or office within the Department of the Interior or the Department of Health and Human Services and that continues to perform the functions formerly performed as part of the BIA and IHS. You are eligible for preference if (a) you are a member of a federally recognized Indian tribe; (b) you are a descendant of a member and you were residing within the present boundaries of any Indian reservation on June 1, 1934; (c) you are an Alaska Native; or (d) you possess one-half degree Indian blood derived from tribes that are indigenous to the United States. The information is submitted in order to retain a benefit, namely, preference in employment with the BIA and IHS.

Affected entities: Qualified Indian applicants and the tribe's involvement in verifying membership information submitted by the applicant.

Estimated number of respondents: 5,000.

Estimated time per response: 30 minutes.

Number of annual responses: 5,000.

Total annual burden hours: 2,500 hours.

Dated: January 22, 2008.
Carl J. Artman,
Assistant Secretary—Indian Affairs.

[FR Doc. E8-1478 Filed 1-28-08; 8:45 am]

BILLING CODE 4310-4J-P